DEPARTMENT OF THE TREASURY

United States Mint

Request for Applications for Appointment to the Citizens Coinage Advisory Committee

Pursuant to United States Code, Title 31, section 5135 (b), the United States Mint is accepting applications for appointment to the Citizens Coinage Advisory Committee (CCAC) to represent the interests of the general public in the coinage of the United States. The CCAC was established to:

Advise the Secretary of the Treasury on any theme or design proposals relating to circulating coinage, bullion coinage, Congressional Gold Medals, and national and other medals produced by the United States Mint.

Advise the Secretary of the Treasury with regard to the events, persons, or places that the CCAC recommends to be commemorated by the issuance of commemorative coins in each of the five calendar years succeeding the year in which a commemorative coin designation is made.

Make recommendations with respect to the mintage level for any commemorative coin recommended.

Total membership consists of eleven voting members appointed by the Secretary of the Treasury:

One person specially qualified by virtue of his or her education, training, or experience as a nationally or internationally recognized curator in the United States of a numismatic collection;

One person specially qualified by virtue of his or her experience in the medallic arts or sculpture;

One person specially qualified by virtue of his or her education, training, or experience in American history;

One person specially qualified by virtue of his or her education, training, or experience in numismatics;

Three persons who can represent the interests of the general public in the coinage of the United States; and

Four persons appointed by the Secretary of the Treasury on the basis of the recommendations by the House and Senate leadership.

Members are appointed for a term of four years. No individual may be appointed to the CCAC while serving as an officer or employee of the Federal Government.

The CCAC is subject to the direction of the Secretary of the Treasury. Meetings of the CCAC are open to the public and are held approximately four to six times per year. The United States Mint is responsible for providing the necessary support, technical services, and advice to the CCAC. CCAC members are not paid for their time or services, but, consistent with Federal Travel Regulations, members are reimbursed for their travel and lodging expenses to attend meetings. Members are Special Government Employees and are subject to the Standards of Ethical Conduct for Employees of the Executive Branch (5 CFR part 2653).

The United States Mint will review all submissions and will forward its recommendations to the Secretary of the Treasury for appointment consideration. Candidates should include specific skills, abilities, talents, and credentials to support their applications. The United States Mint is interested in candidates who are recognized as having unique and valued talents or as accomplished professionals; have demonstrated experience, knowledge, interest, or background in a variety of fields, including numismatics, art, education, working with youth, or American heritage and culture; have demonstrated interest and a commitment to actively participate in meetings and activities, and a demonstrated understanding of the role of the CCAC and the obligations of a Special Government Employee; possess demonstrated leadership skills in their fields of expertise or discipline; possess a demonstrated desire for public service and have a history of honorable professional and personal conduct, as well as successful standing in their communities; and who are free of professional, political, or financial interests that could negatively affect their ability to provide impartial advice.

Application Deadline: Friday, April 26, 2019.

Receipt of Applications: Any member of the public wishing to be considered for CCAC membership should submit a resume and cover letter describing his or her qualifications and reasons for seeking membership by email to info@ccac.gov or by mail to the United States Mint; 801 9th Street NW, Washington, DC 20220; Attn: Greg Weinman. Submissions must be postmarked no later than Friday, April 26, 2019.

Notice Concerning Delivery of First-Class and Priority Mail: First-class mail to the United States Mint is put through an irradiation process to protect against biological contamination. Support materials put through this process may suffer irreversible damage. We encourage you to consider using alternate delivery services, especially when sending time-sensitive material.

For Further Information: Contact Betty Birdsong, Acting United States Mint Liaison to the CCAC; 801 9th Street NW, Washington, DC 20220, or call 202-354-7770.

Dated: March 29, 2019.
David J. Ryder,
Director, United States Mint.

[FR Doc. 2019-06616 Filed 4-4-19; 8:45 am]

BILLING CODE P